DEPARTMENT OF ENERGY

Notice of Intent To Prepare an Environmental Impact Statement for Texas Clean Energy Project, Ector County, TX

AGENCY: Department of Energy.

ACTION: Notice of Intent To Prepare An Environmental Impact Statement.

SUMMARY: The U.S. Department of Energy (DOE or Department) announces its intent to prepare an Environmental Impact Statement (EIS) pursuant to the National Environmental Policy Act (NEPA), the Council on Environmental Quality (CEQ) NEPA regulations (40 CFR parts 1500-1508), and DOE NEPA implementing procedures (10 CFR part 1021), to assess the potential environmental impacts for the proposed action of providing Federal funding for the proposed Texas Clean Energy Project (TCEP) near Odessa, Texas. The project would comprise planning, design, construction and operation by Summit Texas Clean Energy, LLC (Summit) of a coal-fueled electric power and chemicals production plant integrated with carbon dioxide (CO2) capture and geologic sequestration. DOE selected this project for an award of financial assistance through a competitive process under the Clean Coal Power Initiative (CCPI) program (Round 3).

The EIS (DOE/EIS-0444) will inform DOE's decision on whether to provide financial assistance under its CCPI program. DOE proposes to provide Summit with approximately $350 million in funding for this project, which would demonstrate the full integration of CO2 capture and sequestration with a commercial, integrated gasification combined-cycle (IGCC) poly-generation (electricity and chemicals) plant. DOE's contribution of $350 million would constitute about 20 percent of the estimated total development and capital cost of the project, which is estimated to be $1.73 billion (2009 dollars). TCEP would employ advanced clean coal technologies to reduce the levels of CO2 emissions below that of conventional technologies used to generate electricity from fossil fuels, including natural gas.

Summit proposes to build its IGCC plant adjacent to an oil field in Ector County, Texas. The plant would use coal as its feedstock. It would capture, in the form of CO2, about 90% of the carbon in the portion of its coal fuel supply used for power production. The plant would employ two gasifiers, feeding a single, combined-cycle power island to generate about 400 MW (gross) of electricity, with the co-production of sulfuric acid and urea (for fertilizer) or other chemicals. About 275 MW of electricity would be put onto the power grid, with the remaining power used for commercial loads on the project site, such as urea production and CO2 compression. During DOE demonstration phase of the project, it would permanently sequester CO2 at a maximum rate of about 3 million tons per year by piping it to Permian Basin oil fields, where it would be used by field operators for enhanced oil recovery (EOR). Summit is owned jointly by the Summit Power Group, Inc. and CW NextGen, Inc. (CWNI), a Clayton Williams company. The project team includes Summit Power Group, Inc.; Blue Source, LLC; Siemens, AG; and CWNI; among others.

DOE issues this Notice of Intent (NOI) to inform interested parties of the pending EIS and to invite public comments on the proposed action, including: (1) The proposed plans for implementing the project, (2) the range of environmental issues and alternatives to be analyzed, and (3) the analysis methods to be used or considered during preparation of the EIS.

DATES: DOE invites comments on the proposed scope and content of the EIS from all interested parties. Comments must be received by July 2, 2010, to ensure consideration. Late comments will be considered to the extent practicable. In addition to accepting comments in writing (formal letters, faxes and e-mails) and by telephone (See ADDRESSES below), DOE will conduct a public scoping meeting in which government agencies, private-sector organizations, and the general public are invited to present oral comments or suggestions with regard to the alternatives and issues to be considered in the EIS. The scoping meeting will be held beginning at 7 p.m. on Thursday, June 17, 2010, in the Saulsbury Meeting Room of the Electronics Technology Building at Odessa College, 201 West University Blvd, Odessa, Texas 79764. The public is also invited to learn more about the proposed project at an informal session at this location beginning at 4 p.m. Displays and other information about DOE's proposed action and Summit's project will be available, and representatives from DOE and Summit will be present at the informal session to discuss the proposed project, DOE's CCPI program, and the EIS process.

ADDRESSES: Written comments on the scope of the EIS and requests to participate in the public scoping meeting should be addressed to: Mr. Mark L. McKoy, U.S. Department of Energy, National Energy Technology Laboratory, 3610 Collins Ferry Road, P.O. Box 880, Morgantown, WV 26507-0880. Individuals and organizations who would like to provide oral or electronic comments, or request copies of the Draft EIS, should contact Mr. McKoy by telephone (304-285-4426), toll-free telephone (1-800-432-8330 (ext. 4426), fax (304-285-4403), e-mail (Summit.EIS@netl.doe.gov), or formal mail submitted to the address given above.

FOR FURTHER INFORMATION CONTACT: For further information about this project, contact Mr. Mark L. McKoy, as described above. For general information on the DOE NEPA process, please contact Ms. Carol M. Borgstrom, Director, Office of NEPA Policy and Compliance (GC-54), U.S. Department of Energy, 1000 Independence Avenue, SW., Washington, DC 20585-0103; telephone: 202-586-4600; fax: 202-586-7031; or leave a toll-free message at 1-800-472-2756.

SUPPLEMENTARY INFORMATION:

Background

Since the early 1970s, DOE and its predecessor agencies have pursued research and development programs that include large, technically complex projects in pursuit of innovation in a wide variety of coal technologies through the proof-of-concept stage. However, helping a technology reach the proof-of-concept stage does not ensure its continued development or commercialization. Before a technology can be considered seriously for commercialization, it must be demonstrated at a sufficient scale to prove its reliability and economically competitive performance. The financial risk associated with such large-scale demonstration projects is often too high for the private sector to assume in the absence of strong incentives.

The CCPI program was established in 2002 as a government and private sector partnership to implement the recommendation in President Bush's National Energy Policy to increase investment in clean coal technology. Through cooperative agreements with its private sector partners, the program advances clean coal technologies to commercialization; these technologies often involve combustion improvements, control system advances, gasifier designs, pollution reductions (including greenhouse gas reduction), efficiency increases, fuel processing techniques and other improvements.

Congress established criteria for projects receiving financial assistance under this program in Title IV of the Energy Policy Act of 2005 (Pub. L. 109-58) (EPACT 2005). Under this statute, CCPI projects must “advance efficiency, environmental performance and cost competitiveness well beyond the level of technologies that are in commercial service” (Pub. L. 109-58, Sec. 402(a)). In February 2009, the American Recovery and Reinvestment Act of 2009 (Pub. L. 111-5, 123 Stat. 115 (Feb. 17, 2009)) (ARRA) appropriated $3.4 billion to DOE for “Fossil Energy Research and Development;” the Department intends to use a significant portion of these funds to provide financial assistance to CCPI projects.

Purpose and Need for Agency Action

The purpose and need for the DOE action are to advance the CCPI program by funding projects that have the best chance of achieving the program's objectives as established by Congress: the commercialization of clean coal technologies that advance efficiency, environmental performance, and cost competitiveness well beyond the level of technologies that are currently in commercial service.

Summit's Proposed Project

Site of Proposed Project: Penwell, Texas

The proposed site is located on 600 acres, approximately 15 miles southwest of the city of Odessa in Ector County, Texas. The site is on flat land north of the town of Penwell and Interstate Highway I-20. The proposed power plant property is arid, non-arable brush (mesquite-lotebush-juniper) and range land. Surrounding areas are or were used primarily for ranching to the north and east and oil production to the west and south, with some scattered industrial facilities (quarry, cement plant, etc.) within sight to the east and south. There is an extensive junk yard of abandoned oil and gas equipment along the site's southern border, on the other side of a railroad. The site has access to coal delivery via rail along the southern border of the property, and it connects to I-20 via Farm-to-Market Road 1601. There are numerous oil fields within reach of existing CO2 pipelines (with the construction of short new connector pipelines) where the CO2 could be used in EOR operations. Most likely, CO2 would be transported in an existing regional CO2 pipeline network. A short, approximately two-mile, new CO2 pipeline could connect the power plant site to the nearest existing trunk pipeline.

Proposed Plant

Summit would construct an IGCC poly-generation plant that is designed to capture approximately 90 percent of its CO2, and sequester it through use in EOR operations. Summit, or another entity, would operate the plant to demonstrate the commercial feasibility of a fully integrated, coal-fueled 400 MW-equivalent generating unit that would produce 275 MW of electricity for the power grid (with additional amounts for on-site commercial loads and plant use) plus sulfuric acid, urea and perhaps other chemicals such as ammonia, methanol or substitute natural gas. Following the demonstration phase, the project would continue long-term commercial operations with continuing sales of power, urea, captured CO2 and other chemical products.

The new plant would consist of two gasifiers, a gas processing and cleanup system, a syngas-fueled combustion turbine, a heat-recovery steam generator, a steam turbine, a sulfur recovery plant, a chemicals production plant, and associated facilities. The system is designed with duplicate, over-sized gasifiers to ensure full-time availability of syngas production, with sufficient supply for both the production of electricity (more than 75 percent) and chemicals (less than 25 percent).

The plant proposed by Summit would gasify coal to produce “synthesis gas” (or “syngas”—mostly carbon monoxide (CO), hydrogen gas (H2), CO2 and steam), which would be processed to increase the H2 content (by converting CO and H2O into H2 plus CO2) and cleaned of particulates and acid gases to produce a H2-rich, carbon-lean fuel. The H2-rich fuel would power the gas combustion turbine, and CO2 emissions would be minimal (only a fraction of those of a natural gas power plant) as a result of the hydrogen-rich, carbon-lean fuel. Hot exhaust gas from the gas combustion turbine would generate steam from water in the heat recovery steam generator to drive the steam turbine. Using a heat recovery steam generator and a steam turbine to capture energy from the exhaust gases of the combustion turbine is the essence of the combined-cycle approach and increases both efficiency and the total amount of electricity that can be generated from a quantity of coal. Both turbines would generate electricity for sale, with a part of the electricity diverted to service other parts of the poly-generation plant and on-site commercial loads. At full capacity, the plant would be expected to use about 5,800 tons of low-sulfur coal per day (about 1.9 to 2.0 million tons per year). Coal would be delivered by railroad trains from the Powder River Basin and would be bought through contracts on the open market.

The plant would minimize emissions of sulfur oxides, nitrogen oxides, mercury, and particulates as compared to conventional coal-fueled power plants. In compliance with Texas House Bill 469, the project would be required to meet stringent emissions limits: 0.034 pounds of NOX per million BTUs, 0.04 pounds of SOX per million BTUs, 95 percent reduction in mercury emissions, and 0.015 pounds of particulates per million BTUs. The project's air permit application with the Texas Commission on Environmental Quality (TCEQ) includes even lower emissions limits than those required by HB 469. Emissions of carbon monoxide and volatile organic compounds would be controlled.

Steam from the gasification and syngas processing could be condensed, treated, and recycled into the gasifier or added to the plant's cooling water circuit. Slag from the gasifiers would be sold for beneficial uses. Other solid materials generated by the various plant processes would be accumulated on site and made available for beneficial use, recycling or, if these options are not available, disposed of in accordance with applicable laws.

The chemical plant would use the Haber process to convert syngas into ammonia and the Bosch-Meiser process to convert ammonia into urea for fertilizer. With equipment additions or changes, other chemicals could be produced.

Other notable equipment would include coal storage facilities, a coal preparation plant and coal feed system, air separators, stacks, mechanical draft cooling tower (dry cooling is planned for the power generation facilities and wet cooling for other portions of the plant), a unit for converting captured sulfur dioxide into sulfuric acid for sale on the market, and a particulate filtration system. The height of the tallest proposed stack would be approximately 140 feet above ground level. Additionally, the plant would require the construction of a railroad loop, coal unloading facilities, ash/slag handling facilities, access roads, administration buildings, water and waste water treatment facilities, and a waste water disposal well. An underpass may be constructed beneath the adjoining railroad.

Proposed Linear Facilities

Linear facilities are the power transmission lines and pipelines that convey electricity and materials to and from the plant. Electricity could be conveyed to regional 345 kV transmission lines via an approved ERCOT (Electric Reliability Council of Texas) grid extension but could also be transmitted via local interconnects with either of two 138 kV transmission lines, one located approximately 0.7 miles to the north and the other located 1.8 miles to the south. Rights-of-ways (ROWs) would be approximately 200 ft wide. An electrical substation would be constructed to facilitate the connection to the grid.

Process water would be obtained from local wastewater treatment facilities (using effluent from the Gulf Coast Authority, the City of Odessa, and/or the City of Midland) or from a re-charging aquifer in the region. Other water supply options may be considered during the project planning. The water would be conveyed by one or more new pipelines constructed on a combination of existing and new ROWs over distances ranging between about 10 miles and 54 miles.

Wastewater would be processed in a new on-site wastewater treatment plant. The plant would be designed for zero liquid discharge.

Natural gas, which would be used to start the plant, would be obtained from an existing pipeline that traverses the proposed project site or from a gas line located either to the north or to the south of the site. Natural gas also may be used to fuel the power island initially, while the remainder of the plant is under construction.

The plant may deliver its CO2 to the existing Central Basin CO2 pipeline, which is less than two miles to the east of the proposed plant site. In this option, a short new pipeline would be constructed eastwards along new ROW. Alternatively, new pipelines could be constructed to either existing oil fields or to other existing pipelines. New ROWs would require widths of 100 ft for construction and approximately 50 ft for pipeline operations. Sales and conveyance options for CO2 are currently under consideration and negotiation.

Proposed Use of CO2 for Enhanced Oil Recovery and Sequestration

During DOE's demonstration phase of plant operations, the project would sequester about 3 million tons of CO2 per year by transporting it in pipelines to oil fields in the Permian Basin of west Texas for use in EOR operations. These fields are well characterized, and some already make extensive use of CO2 for EOR. As a consequence of EOR operations, most of the captured CO2 (more than 99 percent) would be sequestered in deep underground geologic formations that would be monitored to verify the quantity and permanence of CO2 storage. The use of CO2 in this manner would continue the existing uses of the subject fields, namely enhanced oil production using CO2.

The EOR process involves the repeated injection of CO2 to reduce the oil's viscosity and to move it through the reservoir. During EOR operations, pore space left by the extracted oil is occupied by the injected CO2, sequestering it in the geologic formation. Reservoirs are not over-pressurized from CO2 for EOR operations, because fluid volumes are removed from the reservoirs in amounts corresponding to those injected in the reservoirs.

Summit's Technology Alternatives

Summit has proposed to use Siemens SFG-500 gasifiers and a Siemens F-class combined-cycle power island. As plans progress, Summit will make a final selection of air separation technology, water/gas shift reactor technology, acid gas removal system technology (for capturing both CO2 and acid gases, such as H2S), sulfur recovery technology (e.g., Claus process), and urea production technology (e.g., combination of the Haber ammonia production process and Bosch-Meiser urea production process). Summit has proposed to use only commercially proven, fully warranted equipment to reduce risks and costs. The technological advancement is in the integration of all these components. A competitive process would be used to select vendors and manufacturers (other than for the Siemens-supplied equipment). A wide variety of chemicals could be produced, depending on chemical processing equipment installed. Current plans indicate market viability for the production and sale of urea (for fertilizer), ammonia, methanol and substitute natural gas (SNG).

Proposed Project Schedule

The project proposed by Summit includes the planning, design, construction, initial start-up, and early operation of the plant and associated facilities for a period of three years under the DOE demonstration phase. Thereafter the plant and associated facilities, including the capture and sale of CO2, would be expected to continue for 30 to 50 years. Summit plans to start construction during 2011 and commercial operations (demonstration phase) by late 2014. The schedule is contingent upon Summit receiving the necessary permits (which would be preceded by hearings, public comment opportunities and other events mandated by applicable regulations and agency procedures) and financial closing on all the necessary funding sources, including DOE's financial assistance. DOE's decision to provide financial assistance for detailed design, procurement of expensive equipment, construction, and operations will be informed by the NEPA process.

Connected and Cumulative Actions

Under the cooperative agreement between DOE and Summit, DOE would share in the cost of the power and chemical plant, supporting facilities and site infrastructure (including that required for sequestration monitoring, verification and accounting (MVA), and the costs associated with implementing and documenting the results of the demonstration test plan during the demonstration phase). Under this agreement, DOE would not share in the costs of normal plant operations during the demonstration phase. For activities that would not occur if not for this project, DOE will consider these as connected actions and will evaluate them in the EIS.

DOE will consider the cumulative impacts of both the cost-shared activities and other activities, along with any other connected actions, including those of third parties. Cumulative impacts analysis will include the analysis of pollutant emissions (including greenhouse gas emissions) and other incremental impacts that, when added to past, present and reasonably foreseeable future impacts, may have significant effects on the human environment. DOE will not consider impacts associated with the purchase of commodities (such as coal) on the open market, coal mining, or the transportation of coal as a general industrial activity (as distinguished from the delivery of coal to the project site, specifically), given these impacts are generally well known and would occur regardless of DOE's decision regarding financial assistance for this project. No coal for this project would come from “mountaintop removal” forms of mining, which are not practiced in the Powder River Basin.

Alternatives, Including the Proposed Action

NEPA requires that agencies evaluate the reasonable alternatives to their proposed action. The purpose and need for agency action determines the range of reasonable alternatives. In this case, the purpose and need for DOE's proposed action—providing cost-shared funding for Summit's project—is to advance the CCPI program by funding projects that have the best chance of achieving the program's objectives as established by Congress: The commercialization of clean coal technologies that advance efficiency, environmental performance, and cost competitiveness well beyond the level of technologies that are currently in service.

DOE's NEPA regulations include a process for identifying and analyzing reasonable alternatives in the context of providing financial assistance through a competitive selection of projects proposed by entities outside the federal government. The range of reasonable alternatives in competitions for grants, loans, loan guarantees, and other financial support is defined initially by the range of responsive proposals received by DOE. Unlike projects undertaken by DOE itself, the Department cannot mandate what outside entities propose, where they propose their project, or how they propose to do it, beyond expressing basic requirements in the funding opportunity announcement; and these express requirements must be limited to those that further the program's objectives. DOE's decision is then limited to selecting among the applications that meet the program's goals.

Recognizing that the range of reasonable alternatives in the context of financial assistance and contracting is determined by the number and nature of the proposals received, section 216 of DOE's NEPA regulations requires the Department to prepare an “environmental critique” that assesses the environmental impacts and issues relating to each of the proposals that the DOE selecting official considers for an award. See 10 CFR 1021.216. This official considers these impacts and issues, along with other aspects of the proposals (such as technical merit and financial ability) and the program's objectives, in making awards. DOE prepared a critique of the proposals that were deemed suitable for selection in this round of awards for the CCPI program. DOE will prepare an “environmental synopsis,” based on the critique, to document consideration given to environmental factors. DOE will make the synopsis available to the public by posting it on NETL's Web site.

After DOE selects a project for an award, the range of reasonable alternatives becomes the project as proposed by the applicant, any alternatives still under consideration by the applicant or that are reasonable within the confines of the project as proposed (e.g., the particular location of the plant on the parcel of land proposed for the project) and a “no action” alternative. Regarding a no action alternative, DOE assumes for purposes of the EIS that, if it decides to withhold financial assistance, the project would not proceed.

DOE currently plans to evaluate the project as proposed by Summit (with and without any mitigating conditions that DOE may identify as reasonable and appropriate); alternatives to Summit's proposal that it is still considering (e.g., water sources, sales options for CO2, and the ROWs for linear facilities); and the no action alternative. DOE and Summit will consider other reasonable alternatives suggested during the scoping period.

Under the no action alternative, DOE would not provide funding to Summit. In the absence of financial assistance from DOE, Summit could reasonably pursue two options. It could build the project without DOE funding; the impacts of this option would be essentially the same as those of DOE's proposed action, except any DOE-required mitigations would not be imposed. Or, Summit could choose not to pursue its project, and there would be no impacts from the project. This latter option would not contribute to the goal of the CCPI program, which is to accelerate commercial deployment of advanced coal technologies that provide the United States with clean, reliable, and affordable energy. However, as required by NEPA, DOE analyzes this option as the no action alternative for the purpose of making a meaningful comparison between the impacts of DOE providing financial assistance and withholding that assistance.

Alternatives considered by Summit in developing its proposed project will be discussed in the EIS. Summit considered a number of sites (six in Texas alone) and determined that the only reasonable site for continued consideration is the one at Penwell. Summit's consideration included market opportunities and conditions, local infrastructure, physical suitability of the sites, and environmental concerns. Two of the sites had already been environmentally reviewed and cleared for a very similar project, FutureGen (reference: DOE/EIS-0394). In particular, Summit sought a site where CO2 sales options were readily available and the market was strong and dependable so that there would be no reliance on pending legislation for CO2 capture and sequestration and no need for a long CO2 pipeline that might not be built. The EIS will briefly describe Summit's site selection process. However, DOE does not plan to analyze in detail any alternative sites considered and dismissed by Summit because Summit is no longer considering these other alternatives and because they were not part of the proposal that Summit offered and DOE accepted.

Floodplains and Wetlands

The footprint of the proposed plant would not affect any wetlands or floodplains. Wetland and floodplain impacts, if any, from construction of pipelines and transmission lines would be identified during the preparation of the EIS and described in the EIS. In the event that the EIS identifies wetlands and floodplains that would be affected by the proposed project, including its linear facilities and connected actions, DOE will prepare a floodplain and wetland assessment in accordance with its regulations at 10 CFR part 1022 and include the assessment in the EIS.

Preliminary Identification of Environmental Issues

DOE intends to address the issues listed below when considering the potential impacts resulting from the construction and operation of Summit's proposed project and any connected actions. This list is neither intended to be inclusive nor a predetermined set of potential impacts. DOE invites comments on whether this is the correct list of important issues that should be considered in the EIS. The environmental issues include:

• Air quality impacts: Potential for air emissions during construction and operation of the power plant and appurtenant facilities to impact local sensitive receptors, local environmental conditions, and special-use areas, including contributions to smog and haze, impacts from dust and any significant vapor plumes, and consequences of greenhouse gas emissions;

• Water resource impacts: Potential impacts from water utilization and evaporation;

• Infrastructure and land use impacts: Potential environmental and socioeconomic impacts associated with the project, including delivery of feed materials and distribution of products (e.g., power transmission lines, pipelines);

• Visual impacts associated with facility structures: View shed impacts, impacts to scenic views (e.g., impacts caused by the plant structures, water vapor plumes, flares, power transmission lines, pipelines), internal and external perception of the community or locality;

• Solid waste impacts: Pollution prevention and waste management issues (generation, treatment, transport, storage, disposal or use), including the handling of slag, water treatment sludge, sulfur by-products, and hazardous materials;

• Ecological impacts: Potential on-site and off-site impacts to vegetation, terrestrial wildlife, aquatic wildlife, threatened or endangered species, and ecologically sensitive habitats;

• Traffic issues: Potential impacts from the construction and operation of the facilities, including changes in local traffic patterns, deterioration of roads, traffic hazards, and traffic controls;

• Historic and cultural resource issues: Potential impacts, primarily related to linear facilities and connected actions;

• Fate and stability of sequestered CO2 (and other captured gases) during and after EOR usage;

• Health and safety issues associated with CO2 capture, transport, and usage in EOR;

• Marketability of products (including by-products) and market access to feedstocks;

• Socio-economic impacts, including the creation of jobs and the impacts of State and local tax incentives;

• Disproportionate impacts on minority and low-income populations;

• Noise and light impacts: Potential impacts from construction, transportation of materials, and facility operations;

• Connected actions: Potential development of support facilities or supporting infrastructure;

• Cumulative effects that result from the incremental impacts of the proposed project when added to other past, present, and reasonably foreseeable future projects;

• Compliance with regulatory requirements and environmental permitting;

• Environmental monitoring plans associated with the power plant and with the CO2 sequestration sites.

Public Scoping Process

To ensure identification of all issues related to DOE's proposed action and Summit's proposed project, DOE seeks public input to define the scope of the EIS. The public scoping period will end on July 2, 2010. Interested government agencies, private-sector organizations and individuals are encouraged to submit comments or suggestions concerning the content of the EIS, issues and impacts that should be addressed, and alternatives that should be considered. Scoping comments should clearly describe specific issues or topics that the EIS should address. Written, e-mailed, faxed, or telephoned comments should be received by July 2, 2010 (see ADDRESSES).

DOE will conduct a public scoping meeting beginning at 7 p.m. on Thursday, June 17, 2010 in the Saulsbury Meeting Room of the Electronics Technology Building at Odessa College, 201 West University Blvd., Odessa, Texas 79764. The public is also invited to learn more about the proposed project at an informal session at this location beginning at 4 p.m. Anyone who wishes to speak at this public scoping meeting should contact Mr. Mark L. McKoy, either by phone, fax, e-mail, or letter (see ADDRESSES).

Those who do not arrange in advance to speak may register at the meeting (preferably at the beginning of the meeting) and may speak after previously scheduled speakers. Speakers will be given approximately five minutes to present their comments. Those speakers who want more than five minutes should indicate the length of time desired in their request. Depending on the number of speakers, DOE may need to limit all speakers to five minutes initially and provide second opportunities as time permits. Speakers may also provide written materials to supplement their presentations. Oral and written comments will be given equal consideration. Federal, State and local elected officials and tribal leaders may be given priority in the order of those making oral comments.

DOE will begin the formal meeting with an overview of Summit's proposed Texas Clean Energy Project. The meeting will not be conducted as an evidentiary hearing, and speakers will not be cross-examined. However, speakers may be asked questions to help ensure that DOE fully understands the comments or suggestions. A presiding officer will establish the order of speakers and provide any additional procedures necessary to conduct the meeting.

Issued in Washington, DC, this 27th day of May, 2010.
James J. Markowsky,
Assistant Secretary, Office of Fossil Energy.

[FR Doc. 2010-13215 Filed 6-1-10; 8:45 am]

BILLING CODE 6450-01-P